INTERIOR DEPARTMENT

National Indian Gaming Commission

Notice of Approved Class III Tribal Gaming Ordinance

AGENCY: National Indian Gaming Commission, Interior.

ACTION: Notice.

SUMMARY: The purpose of this notice is to inform the public of the approval of Table Mountain Rancheria (Rancheria) Class III gaming ordinance by the Chairman of the National Indian Gaming Commission.

DATES: This notice is applicable June 13, 2023.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning Tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On May 22, 2023, the Chairman of the National Indian Gaming Commission approved Table Mountain Rancheria (Rancheria) Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: June 8, 2023.
Rea Cisneros,
General Counsel (Acting).

May 22, 2023

VIA EMAIL

Beverly J. Hunter, Chairperson

Table Mountain Rancheria

23736 Sky Harbour Road

P.O. Box 410

Friant, CA 93626

Re: Table Mountain Rancheria's Amended Gaming Ordinance

Dear Chairperson Hunter:

This letter responds to your request of April 14, 2023 on behalf of the Table Mountain Rancheria (Rancheria) for the National Indian Gaming Commission (NIGC) to review and approve amendments to the Rancheria's Gaming Ordinance. The amended Gaming Ordinance was approved by the Tribal Council in Resolution 2023-11 on April 13, 2023.

We understand that these amendments reflect changes in tribal law and ensure consistency with federal and state law as required by regulation or the Rancheria's gaming compact with the State of California. The amendments authorize mobile gaming, address licensing and backgrounding of key employees and primary management officials, removes provisions relating to individually owned gaming, as well as other matters.

Thank you for bringing this ordinance amendment to our attention. The amended Gaming Ordinance is approved as it is consistent with the requirements of the Indian Gaming Regulatory Act and NIGC regulations. If you have any questions or require anything further, please contact Logan Takao Cooper at (503) 318-7524 or Logan.Takao-Cooper@nigc.gov.

Sincerely,

E. Sequoyah Simermeyer, Chairman

cc: Michelle A. Carr, Counsel

[FR Doc. 2023-12644 Filed 6-12-23; 8:45 am]

BILLING CODE 7565-01-P